DEPARTMENT OF ENERGY

Federal Energy Regulatory Commission

Combined Notice of Filings #2

Take notice that the Commission received the following electric corporate filings:

Docket Numbers: EC17-130-000.

Applicants: Great Western Wind Energy, LLC, AER GW Holdco, LLC.

Description: Application for Authorization under Section 203 of the Federal Power Act for Disposition of Jurisdictional Facilities, Request for Expedited Action and Confidential Treatment of Great Western Wind Energy, LLC, et al.

Filed Date: 6/16/17.

Accession Number: 20170616-5168.

Comments Due: 5 p.m. ET 7/7/17.

Docket Numbers: EC17-131-000.

Applicants: Florida Power & Light Company.

Description: Application for Approval of Acquisition of Transmission Assets Pursuant to Section 203 of the Federal Power Act and Request for Expedited Action of Florida Power & Light Company.

Filed Date: 6/16/17.

Accession Number: 20170616-5174.

Comments Due: 5 p.m. ET 7/7/17.

Take notice that the Commission received the following electric rate filings:

Docket Numbers: ER15-1332-005; ER10-2400-007; ER10-2401-005; ER10-2402-005; ER10-2403-006; ER10-2405-005; ER10-2407-004; ER10-2424-004; ER10-2425-006; ER11-3414-006; ER13-1816-005; ER15-1333-005.

Applicants: Arbuckle Mountain Wind Farm LLC, Blue Canyon Windpower LLC, Blue Canyon Windpower II LLC, Blue Canyon Windpower V LLC, Blue Canyon Windpower VI LLC, Cloud County Wind Farm, LLC, High Prairie Wind Farm II, LLC, Lost Lakes Wind Farm LLC, Pioneer Prairie Wind Farm I, LLC, Rail Splitter Wind Farm, LLC, Sustaining Power Solutions LLC, Waverly Wind Farm LLC.

Description: Notice of Non-Material Change in Status of Arbuckle Mountain Wind Farm LLC, et al.

Filed Date: 6/16/17.

Accession Number: 20170616-5148.

Comments Due: 5 p.m. ET 7/7/17.

Docket Numbers: ER17-1846-000.

Applicants: PacifiCorp.

Description: § 205(d) Rate Filing: UAMPS Construction Agmt Lehi Temp Tap Additional to be effective 8/16/2017.

Filed Date: 6/16/17.

Accession Number: 20170616-5082.

Comments Due: 5 p.m. ET 7/7/17.

Docket Numbers: ER17-1847-000.

Applicants: Moxie Freedom LLC.

Description: Baseline eTariff Filing: Market-Based Rate Application to be effective 8/16/2017.

Filed Date: 6/16/17.

Accession Number: 20170616-5146.

Comments Due: 5 p.m. ET 7/7/17.

Docket Numbers: ER17-1848-000.

Applicants: Michigan Electric Transmission Company, LLC.

Description: § 205(d) Rate Filing: Filing of an Interconnection Facilities Agreement to be effective 8/15/2017.

Filed Date: 6/16/17.

Accession Number: 20170616-5178.

Comments Due: 5 p.m. ET 7/7/17.

Docket Numbers: ER17-1849-000.

Applicants: Nautilus Power, LLC.

Description: § 205(d) Rate Filing: Errata re Notice of Succession to be effective 6/16/2017.

Filed Date: 6/16/17.

Accession Number: 20170616-5200.

Comments Due: 5 p.m. ET 7/7/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2017.
Nathaniel J. Davis, Sr.,
Deputy Secretary.

[FR Doc. 2017-13087 Filed 6-22-17; 8:45 am]

BILLING CODE 6717-01-P